DEPARTMENT OF COMMERCE

National Oceanic and Atmospheric Administration

[RTID 0648-XD627]

Pacific Island Fisheries; Western Pacific Stock Assessment Review Steering Committee Meeting; Public Meeting

AGENCY: National Marine Fisheries Service (NMFS), National Oceanic and Atmospheric Administration (NOAA), Commerce.

ACTION: Notice; public meeting.

SUMMARY: The Western Pacific Stock Assessment Review (WPSAR) Steering Committee will convene a public meeting to discuss and approve the 5-year calendar for stock assessments, and to address any other concerns related to the WPSAR process.

DATES: The Steering Committee will meet from 2 p.m. to 3:30 p.m. Hawaii standard time on January 17, 2024.

ADDRESSES: The meeting will be open to the public and held in-person at the NMFS Honolulu Service Center at Pier 38, 1129 N Nimitz Hwy., Suite 220, Honolulu, HI 96817.

FOR FURTHER INFORMATION CONTACT: Todd Jones, (808) 725-5713, or todd.jones@noaa.gov.

SUPPLEMENTARY INFORMATION: The WPSAR steering committee consists of the Executive Director of the Western Pacific Fishery Management Council, the Science Director of the NMFS Pacific Islands Fisheries Science Center (PIFSC), and the Acting Regional Administrator of the NMFS Pacific Islands Regional Office. You may read more about WPSAR at https://www.pifsc.noaa.gov/peer_reviews/wpsar/index.php.

The public will have an opportunity to comment during the meeting. The agenda order may change. The meeting will run as late as necessary to complete scheduled business.

Meeting Agenda

1. Introductions

2. Stock assessments

a. Discuss and update stock assessment review schedule

b. Discuss and update review levels for stock assessments

3. Discuss and nominate additional science products for review by the Center for Independent Experts, if necessary

4. Finalizing the updates to the WPSAR Framework

a. Incorporation of Research Track Assessment

5. Other business

6. Public comment

Special Accommodations

This meeting is physically accessible to people with disabilities. Please direct requests for sign language interpretation or other auxiliary aids to T. Todd Jones, Director, PIFSC Fisheries Research and Management Division, telephone: (808) 725-5713, or todd.jones@noaa.gov at least 5 days prior to the meeting date.

Authority: 16 U.S.C. 1801 et seq.

Dated: December 27, 2023.
Jon William Bell,
Acting Director, Office of Sustainable Fisheries, National Marine Fisheries Service.

[FR Doc. 2023-28873 Filed 1-2-24; 8:45 am]

BILLING CODE 3510-22-P